DEPARTMENT OF ENERGY

Bonneville Power Administration

Chief Joseph Dam Hatchery Program

AGENCY: Bonneville Power Administration (BPA), Department of Energy (DOE).

ACTION: Notice of intent to prepare an Environmental Impact Statement (EIS).

SUMMARY: This notice announces BPA's intention to prepare an EIS on a comprehensive management program for summer/fall Chinook salmon in the Okanogan subbasin and the Columbia River between the confluence of the Okanogan River and Chief Joseph Dam including construction, operation, and maintenance of a hatchery and acclimation ponds. While the focus of the Chief Joseph Dam Hatchery Program (CJDHP) is on the propagation of summer/fall Chinook salmon, the EIS will also consider the use of the proposed facilities to reintroduce extirpated spring Chinook salmon to their historical habitats in the Okanogan subbasin in Okanogan County, Washington.

DATES: Written comments are due to the address below no later than September 19, 2005. Comments may also be made at one of the EIS scoping meetings to be held on August 24, 2005, and August 25, 2005, at the address below.

ADDRESSES: Comments and suggestions on the proposed scope of the Draft EIS for this project, and requests to be placed on the project mailing list, may be mailed by letter to Bonneville Power Administration, Communications—DM-7, P.O. Box 14428, Portland, OR 97292-4428. Or, you may FAX them to 503-230-3285; or submit them on-line at http://www.bpa.gov/comment/.

Public scoping meetings will be held on Wednesday, August 24, 2005, from 5 p.m to 8 p.m. at the Okanogan PUD in the Auditorium, 1331 2nd Avenue, Okanogan, Washington 98840, and Thursday, August 25, 2005, from 2 p.m. to 6 p.m. at the Wenatchee Convention Center in the Golden Delicious Room, 201 N. Wenatchee Avenue, Wenatchee, Washington 98801. At these informal open house meetings, we will provide information about the project, including maps, and have members of the project team available to answer questions and accept oral and written comments.

FOR FURTHER INFORMATION CONTACT: Mickey Carter, Project Manager, Bonneville Power Administration—KEC-4, P.O. Box 3621, Portland, Oregon 97208-3621; toll-free telephone number 1-800-282-3713; fax number 503-230-5699; e-mail address macarter@bpa.gov.

SUPPLEMENTARY INFORMATION: BPA shall be the lead Federal agency in preparing and issuing an EIS for this project. The Confederated Tribes of the Colville Reservation (Colville Tribe), although not a Federal agency, are a primary proponent and cooperating entity for this EIS and would be operating and maintaining the program and facilities if implemented. Additional cooperating agencies on this EIS may include the U.S. Army Corps of Engineers, U.S. Bureau of Reclamation, Washington Department of Fish and Wildlife, NOAA Fisheries, and Public Utility Districts.

Proposed Action: The Proposed Action is to develop a comprehensive management program for summer/fall Chinook salmon in the Okanogan subbasin and the Columbia River between the confluence of the Okanogan River and Chief Joseph Dam including construction, operation, and maintenance of a hatchery (at the base of the Chief Joseph Dam) and acclimation ponds (throughout the Okanogan River subbasin), broodstock collection, egg incubation, rearing, release, and selective harvest. While the focus of the CJDHP is on the propagation of summer/fall Chinook salmon, the EIS will also consider the use of the proposed facilities to reintroduce extirpated spring Chinook salmon to their historical habitats in the Okanogan subbasin.

To ensure programmatic flexibility and cost effectiveness, the CJDHP proposes to make use of a combination of new and existing fish production facilities. The summer/fall Chinook component of the CJDHP is designed to increase the abundance, distribution, and diversity of naturally-spawning summer/fall Chinook salmon within their historical Okanogan subbasin habitat, which will support recreational, ceremonial and subsistence fisheries. The summer/fall Chinook population in the Okanogan River is at present supported by a single hatchery program that produces 576,000 yearling smolts annually.

The proposed CJDHP will increase production of juvenile summer/fall Chinook by 2,000,000, including 1,100,000 fish primarily for conservation purposes and 900,000 fish primarily for harvest purposes. This increased production level is expected to result in an adult return to the Okanogan subbasin of approximately 6,000 to 29,000 summer/fall Chinook salmon. The spring Chinook component of the CJDHP is designed to introduce naturally-spawning spring Chinook populations to their historical Okanogan subbasin habitat, which will support stable ceremonial, subsistence, and recreational fisheries. The CJDHP spring Chinook component proposes to initially increase production of Carson stock spring Chinook destined for the Okanogan subbasin to 900,000 smolts. This increased production level is expected to result in an adult return to the Okanogan subbasin of approximately 2,700 to 9,000 spring Chinook. As surplus Upper Columbia River spring Chinook become available from other fish production programs, the Carson stock spring Chinook will be replaced with endangered stock.

Process to Date: In May 2004, the Colville Tribes submitted a Master Plan for the CJDHP as part of Step 1 of the Northwest Power and Conservation Council's Three-Step Review Process. The Master Plan included conceptual designs for hatchery facilities necessary for the production of summer/fall Chinook and spring Chinook. The Master Plan was reviewed by the Independent Science Review Panel as part of the Council's process.

The project was also available for public comment as part of the Council's process. In February 2005, the Northwest Power and Conservation Council approved the CJDHP Master Plan and directed the project to proceed with Step 2, which includes National Environmental Policy Act analysis.

Alternatives Proposed for Consideration: BPA is currently considering two alternatives for evaluation in the EIS: (1) The construction of a new summer/fall Chinook salmon and spring Chinook salmon hatchery facility at the base of Chief Joseph Dam along with a combination of new and existing acclimation facilities and adult collection facilities; and (2) the no-action alternative. Other alternatives may be identified through the scoping process. Mitigation measures will be considered, separate from features of the proposed action that could avoid or substantially reduce the environmental consequences of the proposed action.

Public Participation and Identification of Environmental Issues: The scoping process will help BPA ensure that a full range of alternatives and issues related to this proposal is addressed in the EIS, and also will identify significant or potentially significant impacts that may result from the proposed project. BPA has established a 45-day scoping period for this project during which affected landowners, concerned citizens, special interest groups, local governments, and any other interested parties are invited to comment on the scope of the proposed EIS. Public and internal scoping on this project will also include two public open house meetings. When completed, the Draft EIS will be circulated for review and comment and BPA will hold public meetings to receive comments on the Draft EIS. BPA and the cooperating agencies will consider and respond in the Final EIS to comments received on the Draft EIS. BPA's decision will be documented in a Record of Decision. The EIS will satisfy the requirements of the National Environmental Policy Act. When completed, the Draft EIS will be circulated for review and comment, and BPA will hold at least one public comment meeting for the Draft EIS. BPA will consider and respond in the Final EIS to comments received on the Draft EIS. BPA's subsequent decision will be documented in a Record of Decision. Maps and further information are available from BPA at the address above.

Issued in Portland, Oregon, on July 27, 2005.
Stephen J. Wright,
Administrator and Chief Executive Officer.

[FR Doc. 05-15192 Filed 8-1-05; 8:45 am]

BILLING CODE 6450-01-P